UTAH RECLAMATION MITIGATION AND CONSERVATION COMMISSION

Notice of Availability of the Decision Notice and Finding of No Significant Impact for the Warm-Water Interim Hatchery Facility in Cache County, UT

AGENCY: Utah Reclamation Mitigation and Conservation Commission.

ACTION: Notice of availability.

SUMMARY: On September 24, 2003 the Utah Reclamation Mitigation and Conservation Commission (Commission) and the Utah Division of Wildlife Resources (Division) released an Environmental Assessment (EA) evaluating construction and operation of an interim warm-water fish hatchery to produce stockable June sucker (Chasmistes liorus), which is listed as endangered by the U.S. Fish and Wildlife Service (USFWS). The EA considers two potential sites for the Interim Facility: the first site is on approximately 2.4 acres of Utah State land at Goshen Warm Springs in the City of Genola, Utah County, Utah (Goshen Warm Springs Alternative); the second site is on approximately 0.1 acre of Utah State land operated as the Fisheries Experiment Station (FES) in Logan, Utah (FES Alternative).

The June sucker, a fish endemic to Utah Lake that spawns in the Provo River, is a species targeted for recovery. The USFWS listed the species as endangered with critical habitat in 1986. In 1999, the USFWS adopted a June Sucker Recovery Plan with a stated goal to prevent the extinction of the species and eventually remove the fish from the endangered species list. A 1998 Fish Hatchery Production Plan developed by the Commission and the Division identified an immediate need for June sucker production. In order to offset a further decline in June sucker numbers until a permanent Production Facility could be planned and constructed, the Interim Facility is proposed for immediate construction and operation.

After careful review of impacts to affected resources analyzed in the EA, and examination of public comments, the Commission and the Division have selected the preferred alternative (FES Alternative), to construct the Interim Facility at the existing facility in Logan, Utah, for implementation. The FES is managed by the Division and is currently rearing June sucker for use as broodstock. The facility will be an approximately 4,200 square-foot addition to an existing building, allowing space for fish tanks as well as equipment necessary for water recirculation and heating, and will have an annual production capacity of 36,000 stockable June sucker at 8.5 inches in length.

The Commission and the Division selected the FES Alternative because no significant impacts will be created, and because the FES Alternative provides the best opportunity to meet interim production needs for June sucker while maintaining cost efficiency. Additional security will not have to be provided, as at Goshen Warm Springs, because of existing coverage at the FES. The FES Alternative would be substantially less expensive to construct and operate, because of the existing infrastructure (parking, utilities, etc.) and proximity to existing June sucker brood stock production at FES.

The Environmentally Preferred Alternative is the FES Alternative. The FES Alternative has less overall associated environmental impacts than the Goshen Warm Springs Alternative. The FES Alternative would: be sited, primarily, on Utah State lands currently developed for aquaculture operations; require less land conversion and development; result in no surface water quality impacts; and result in no direct wetland impacts. The action, along with identified requisite mitigation, is consistent with Commission and Division policies and other laws and regulations.

The FES alternative does not constitute an action that normally requires preparation of an Environmental Impact Statement (EIS). Information derived from public involvement, including that from other agencies, was considered and factored into the decision. Since the preferred alternative, as mitigated, will not cause unacceptable impacts, or create unsafe or unhealthful conditions, it is appropriate to approve the action considering governing laws and policies. Based on the foregoing, it was determined that an EIS is not required for this project and thus will not be prepared.

ADDRESSES: Copies of the FONSI can be obtained from the Utah Reclamation Mitigation and Conservation Commission, 102 West 500 South, Suite 315, Salt Lake City, Utah 84101.

FOR FURTHER INFORMATION CONTACT: Maureen Wilson, (801) 524-3146.

Dated: March 17, 2004.
Michael C. Weland,
Executive Director, Utah Reclamation Mitigation and Conservation Commission.

[FR Doc. 04-6810 Filed 3-25-04; 8:45 am]

BILLING CODE 4310-05-P